DEPARTMENT OF THE INTERIOR

Bureau of Land Management

[17X.LLAKF02000.L16100000.DR0000.LXSS094L0000]

Notice of Availability of Records of Decision and Approved Resource Management Plans for the Four Subunits of the Eastern Interior Resource Management Plan and Final Environmental Impact Statement

AGENCY: Bureau of Land Management, Interior.

ACTION: Notice.

SUMMARY: The Bureau of Land Management (BLM) announces the availability of the Records of Decision (RODs) for the Approved Resource Management Plans (RMPs) for the Fortymile, Draanjik, Steese, and White Mountains planning areas located in Eastern Interior Alaska. The Alaska State Director signed the RODs on December 30, 2016, which constitutes the final decision of the BLM and makes the Approved RMPs effective immediately.

ADDRESSES: Copies of the RODs/Approved RMPs are available upon request from the Field Manager, Eastern Interior Field Office, Bureau of Land Management, 222 University Avenue, Fairbanks, Alaska 99709 or via the internet at https://www.blm.gov/programs/planning-and-nepa/plans-in-development/alaska/eastern-interior-rmp. Copies of the RODs/Approved RMPs are available for public inspection at the Fairbanks District Office, 222 University Avenue, Fairbanks, Alaska.

FOR FURTHER INFORMATION CONTACT: Jeanie Cole; telephone: 907-474-2340; address: 222 University Avenue, Fairbanks, Alaska 99709; email: j05cole@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Eastern Interior planning process resulted in four RODs and Approved RMPs covering approximately 6.5 million acres of BLM-administered lands in interior Alaska: 1.8 million acres under the Fortymile Approved RMP (including the Fortymile Wild and Scenic River); 1.3 million acres under the Steese Approved RMP (including the Steese National Conservation Area and Birch Creek Wild and Scenic River); 2.4 million acres under the Draanjik Approved RMP; and 1 million acres under the White Mountains Approved RMP (including the White Mountains National Recreation Area and Beaver Creek Wild and Scenic River). The Approved RMPs describe the actions and landscape-level conservation and management needed to meet desired resource conditions and objectives for upland and riparian vegetation, fish and wildlife habitats, cultural resources, water and wetland resources, wilderness characteristics, recreation, and mineral development. The Approved RMPs designate three Areas of Critical Environmental Concern (ACECs): the Salmon Fork ACEC in the Draanjik Approved RMP, and the Fortymile ACEC and the Mosquito Flats ACEC in the Fortymile Approved RMP. Additionally, four Research Natural Areas (RNAs) are carried forward as valid existing administrative designations in the Steese and White Mountains Approved RMPs: Big Windy Hot Springs (Steese), Mount Prindle (Steese and White Mountains), Limestone Jags (White Mountains), and Serpentine Slide (White Mountains) RNAs.

The Eastern Interior Field Office used the wild and scenic river inventory conducted for the Eastern Interior planning process to identify outstandingly remarkable values for Birch Creek, Beaver Creek, and Fortymile wild and scenic rivers because these values were not identified in the designating legislation. Section 2.1.3 of each Approved RMP identifies outstandingly Remarkable Values. Values for Birch Creek are scenic, recreation, and fisheries; values for Beaver Creek are scenic, recreation, geologic, fisheries, and wildlife; values for the Fortymile River vary by segment and include scenic, recreation, geologic, historic, and wildlife.

The Eastern Interior RMP/EIS was subject to extensive public review. The Environmental Protection Agency (EPA) published a Notice of Availability for the Eastern Interior Draft RMP/Draft EIS in the Federal Register on March 2, 2012 (77 FR 12835), beginning a 150-day public comment period that was later extended pending publication of a supplemental EIS. The EPA published the Notice of Availability of the supplemental EIS, Hardrock Mineral Leasing in the White Mountains National Recreation Area for the Eastern Interior Draft RMP (Supplement), in the Federal Register on January 11, 2013 (78 FR 2397), beginning a 90-day public comment period on the Supplement. The comment period for both the Eastern Interior Draft RMP/Draft EIS and the Hardrock Mineral Leasing Supplement closed on April 11, 2013. The BLM published a Notice of Availability of Additional Information on Proposed Areas of Critical Environmental Concern (ACECs) (80 FR 52) in the Federal Register on January 2, 2015, beginning a 60-day comment period on two proposed ACECs. That comment period closed on March 3, 2015.

The preferred alternative in the Draft RMP/EIS was Alternative C. The Proposed RMP/Final EIS added Alternative E as the Proposed RMP. This Alternative E was a revised version of Alternative C, based on public comment and tribal consultation. Alternative E represented the mix and variety of actions that the BLM believed best resolved the issues and management concerns in consideration of all values and programs. Alternative E was a minor variation of the alternatives analyzed in the Draft RMP/EIS and was within the spectrum of alternatives analyzed in the Draft. The Proposed RMP/Final EIS considered five rivers to be eligible for potential designation as Wild and Scenic Rivers, but the RODs do not determine them to be suitable for designation as Wild and Scenic Rivers, instead protecting them through other means.

The EPA published a Notice of Availability for the Eastern Interior Proposed RMP/Final EIS in the Federal Register on July 29, 2016. The BLM provided a 30-day protest period for the Proposed RMP/Final EIS in accordance with 43 CFR part 1610.5-2. The BLM Director received nine protest letters. Concurrent with the protest period, the BLM made the Proposed RMP/Final EIS available to the Governor of Alaska for a 60-day consistency review as required by 43 CFR 1610.3-2(e). The Alaska Department of Natural Resources responded on behalf of the Governor with four issues. The BLM Alaska State Director determined that one of these points was within the scope of the Governor's Consistency Review Process. The BLM Alaska State Director did not find the Proposed RMP inconsistent with state or local plans, policies, or programs.

On November 8, 2016, the Governor appealed the BLM Alaska State Director's decision to not accept his recommendations to the BLM Director. In the Governor's appeal letter, the State of Alaska requested the BLM Director to reconsider the issues and recommendations raised in the Governor's Consistency Review letter. The BLM Director issued a final response to the Governor affirming the State Director's decision.

As a result of protests and internal reviews, the BLM made minor modifications, corrections, and clarifications in preparing the Approved RMPs. These modifications provide further clarification of some of the decisions and future monitoring efforts. Clarifications correct typographical errors in the Proposed RMP and clarify language of some decisions.

The following decisions are appealable under 43 CFR, part 4:

Draanjik ROD: Draanjik Travel Management Plan and limitations on placement of bait and wildlife lures (Appendix E and sections 2.2.20, and 2.2.21 of the RMP); White Mountains ROD: Designate trails and areas for UTV use, change weight limitations from gross vehicle weight rating to curb weight, allow for use of hovercraft and airboats, and limitations on placement of bait and wildlife lures (sections 2.2.16, 2.2.20, and 2.2.21 of the RMP);

Steese ROD: change weight limitations from gross vehicle weight rating to curb weight, allow for use of hovercraft and airboats, and limitations on placement of bait and wildlife lures (sections 2.2.16, 2.2.20, and 2.2.21 of the RMP);

Fortymile ROD: Establish width and weight limits on use of OHVs outside of the Fortymile WSR corridor; change weight limitations from gross vehicle weight rating to curb weight; allow for use of motorboats, hovercraft, and airboats within the Fortymile WSR; and limitations on placement of bait and wildlife lures (sections 2.2.15, 2.2.19, and 2.2.20 of the RMP). Any party adversely affected by these proposed decisions may appeal within 30 days of publication of this Notice of Availability pursuant to 43 CFR, part 4, subpart E.

The appeal should state the specific items on which the decision is being appealed. The appeal must be filed with the Eastern Interior Field Manager at the above listed address. Please consult the appropriate regulations (43 CFR, part 4, subpart E) for further appeal requirements.

Authority: 40 CFR 1506.6.

Bud Cribley,
State Director .

[FR Doc. 2016-31976 Filed 1-5-17; 8:45 am]

BILLING CODE 4310-JA-P